AGENCY FOR INTERNATIONAL DEVELOPMENT

Notice of Meeting

Pursuant to the Federal Advisory Committee Act, notice is hereby given of a meeting of the Advisory Committee on Voluntary Foreign Aid (ACVFA).

Date: Wednesday, February 22, 2006 (9 a.m. to 4 p.m.).

Location: Hotel Washington, 515 15th Street, NW., Washington Ballroom, Washington, DC 20004.

Please note that this is the anticipated agenda and is subject to change.

Foreign Assistance Reforms: The Committee will receive an update on the Secretary of State's new direction for U.S. foreign assistance.

Africa: Lloyd Pierson, Assistant Administrator for USAID's Africa Bureau, has been invited to outline how USAID country plans are being aligned with the Fragile States strategy. Specific countries may include Liberia and the Democratic Republic of the Congo.

Military Affairs: Spencer King, ACVFA Member, will lead a discussion with Tom Baltazar, Director of USAID's Office of Military Affairs, concerning collaboration with NGOs on the ground in post-conflict situations. Jeb Nadaner, Deputy Assistant Secretary of Defense for Stability Operations has also been invited to join the discussion as well as a representative from the Office of the Coordinator for Reconstruction and Stabilization at the U.S. Department of State.

Pandemics—Surveillance and Monitoring with Local Partners: Dennis Carroll and Irene Koek from USAID's Global Health Bureau have been invited to join a discussion with Nancy Aossey and Mohammad Akhter, ACVFA members, on how the current international preparedness framework, particularly with local partners, may be optimized when responding to pandemics, such as avian influenza and polio.

The meeting is free and open to the public. Persons wishing to attend the meeting can register online at http://www.usaid.gov/about_usaid/acvfa or e-mail their name to Kristy Nuss at kristy@websterconsulting.com or Jocelyn Rowe at jrowe@usaid.gov or 202-712-4002.

Dated: February 1, 2006.
Jocelyn M. Rowe,
Executive Director, Advisory Committee on Voluntary Foreign Aid (ACVFA), U.S. Agency for International Development.

[FR Doc. E6-1639 Filed 2-7-06; 8:45 am]

BILLING CODE 6116-01-P